INTERNATIONAL TRADE COMMISSION

[USITC SE-08-013]

Government In the Sunshine Act Meeting Notice

Agency Holding the Meeting: United States International Trade Commission.

Time and Date: June 3, 2008 at 2 p.m.

Place: Room 101, 500 E Street, SW., Washington, DC 20436, Telephone: (202) 205-2000.

Status: Open to the public.

Matters To Be Considered

1. Agenda for future meetings: None.

2. Minutes.

3. Ratification List.

4. Inv. Nos. 701-TA-417 and 731-TA-953, 954, 957-959, 961, and 962 (Review) (Carbon and Certain Alloy Steel Wire Rod from Brazil, Canada, Indonesia, Mexico, Moldova, Trinidad and Tobago, and Ukraine)—briefing and vote. (The Commission is currently scheduled to transmit its determination and Commissioners' opinions to the Secretary of Commerce on or before June 16, 2008) .

5. Outstanding action jackets: None.

In accordance with Commission policy, subject matter listed above, not disposed of at the scheduled meeting, may be carried over to the agenda of the following meeting.

Issued: May 7, 2008.
By order of the Commission.
William R. Bishop,
Hearings and Meetings Coordinator.

[FR Doc. E8-10605 Filed 5-12-08; 8:45 am]

BILLING CODE 7020-02-P